FEDERAL COMMUNICATIONS COMMISSION

[FR ID 137516]

Open Commission Meeting Thursday, April 20, 2023

April 13, 2023.

The Federal Communications Commission will hold an Open Meeting on the subjects listed below on Thursday, April 20, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office of Engineering and Technology | Title: Promoting Efficient Use of Spectrum and Opportunities for New Services (ET Docket No. 23-122); Promoting Efficient Use of Spectrum through Improved Receiver Interference Immunity Performance (ET Docket No. 22-137).
|  | Summary: The Commission will consider a Policy Statement intended to help guide Commission decision-making and stakeholder action to promote efficient co-existence between incumbent and new services. The Policy Statement promotes a balanced and comprehensive approach to spectrum management that holistically considers both transmitter and receiver components of wireless systems.
2 | Office of International Affairs | Title: Review of International Section 214 Authorizations to Assess Evolving Risks (IB Docket No. 23-119); Amendment of the Schedule of Application Fees Set Forth in Sections 1.1102 through 1.1109 of the Commission's Rules (MD Docket No. 20-270).
|  | Summary: The Commission will consider an Order and Notice of Proposed Rulemaking that would take another important step to protect the nation's telecommunications infrastructure from threats in an evolving national security and law enforcement landscape by proposing comprehensive changes to the Commission's rules that allow carriers to provide international telecommunications service pursuant to section 214 of the Communications Act of 1934, as amended.
3 | Space | Title: Facilitating Satellite Broadband Competition (IB Docket No. 21-456).
|  | Summary: The Commission will consider a Report and Order and Further Notice of Proposed Rulemaking that would revise rules for spectrum sharing among new satellite broadband constellations. The rule revisions would clarify protection obligations between non-geostationary satellite orbit, fixed-satellite service systems to facilitate the deployment of these next generation systems, including new competitors.
4 | Office of Engineering and Technology | Title: Amendment of the Commission's Rules Regarding Implementation of the Final Acts of the World Radiocommunication Conference (Sharm el-Sheikh, 2019) (WRC-19), Other Allocation Issues, and Related Rule Updates (ET Docket No. 23-121); Amendment of the Commission's Rules Regarding Implementation of the Final Acts of the World Radiocommunication Conference (Geneva, 2015) (WRC-15), Other Allocation Issues, and Related Rule Updates (ET Docket No. 23-120); Amendment of Parts 2 and 97 of the Commission's Rules Regarding Implementation of the Final Acts of the World Radiocommunication Conference (Geneva, 2015) To Allocate the Band 5351.5-5366.5 kHz to the Amateur Radio Service; (RM-11785).
|  | Summary: The Commission will consider an Order to make updates to the International Allocation Table to reflect the International Telecommunication Union Radio Regulations (Edition of 2020) and make other non-substantive, editorial revisions. The Commission will also consider a Notice of Proposed Rulemaking that would seek comment on implementing certain of the remaining radiofrequency allocation decisions from the 2015 World Radiocommunication Conference. The NPRM would propose allocation changes and related updates to service rules.
5 | Public Safety and Homeland Security | Title: Wireless Emergency Alerts (PS Docket No. 15-91); Amendments to Part 11 of the Commission's Rules Regarding the Emergency Alert System (PS Docket No. 15-94).
|  | Summary: The Commission will consider a Further Notice of Proposed Rulemaking that would increase the accessibility, performance, and functionality of Wireless Emergency Alerts, including greater accessibility for people with disabilities and through multilingual alerting.
6 | Wireline Competition | Title: Updating the Intercarrier Compensation Regime to Eliminate Access Arbitrage (WC Docket No. 18-155).
|  | Summary: The Commission will consider a Second Report and Order, which would modify its Access Stimulation Rules to close a perceived loophole exploited by opportunistic access-stimulating entities to continue to inflate access charges paid by interexchange carriers. The Order would make this inefficient practice less attractive to arbitrageurs and help prevent interexchange carriers' end-user customers from bearing costs for services they may not even use.
7 | Media | Title: Amendment of Parts 73 and 74 of the Commission's Rules to Establish Rules for Digital Low Power Television and Television Translator Stations (MB Docket No. 03-185); Update of Part 74 of the Commission's Rules Related to Low Power Television and Television Translator Stations (MB Docket No. 22-261).
|  | Summary: The Commission will consider an Order that would amend its Part 74 rules for low-power television and television translators to remove obsolete rules for analog TV operations.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-08625 Filed 4-24-23; 8:45 am]

BILLING CODE 6712-01-P